DEPARTMENT OF VETERANS AFFAIRS

[OMB Control No. 2900-0759]

Agency Information Collection Activity: VA National Veterans Sports Programs and Special Events

AGENCY: Department of Veterans Affairs.

ACTION: Notice.

SUMMARY: Office of National Programs and Special Events (NVSP), Department of Veterans Affairs (VA), is announcing an opportunity for public comment on the collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 26, 2017.

ADDRESSES: Submit written comments on the collection of information through Federal Docket Management System (FDMS) at www.Regulations.gov or to Joshua McCoy, Office of Public and Intergovernmental Affairs (OPIA), (002C), Department of Veterans Affairs, 810 Vermont Avenue NW., Washington, DC 20420 or email to Joshua.McCoy2@va.gov. Please refer to “OMB Control No. 2900-0759” in any correspondence. During the comment period, comments may be viewed online through FDMS.

FOR FURTHER INFORMATION CONTACT: Joshua McCoy at 202-461-0456.

SUPPLEMENTARY INFORMATION:

Under the PRA of 1995, Federal agencies must obtain approval from the Office of Management and Budget (OMB) for each collection of information they conduct or sponsor. This request for comment is being made pursuant to Section 3506(c)(2)(A) of the PRA.

With respect to the following collection of information, OPIA invites comments on: (1) Whether the proposed collection of information is necessary for the proper performance of OPIA's functions, including whether the information will have practical utility; (2) the accuracy of OPIA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-21.

Titles:

a. National Disabled Veterans Winter Sports Clinic Application, VA Form 0924a, c, d and VA Form 2900-0925 (SF).

b. Cross Country Ski Instructor Personnel Application, VA Form 0924n.

c. Downhill Skill Instructor Personnel Application, VA Form 0924s.

d. Volunteer Application, VA Form 0924t.

e. National Veterans Wheelchair Games Event Application, VA Form 0925b.

f. Voluntary Service Application, VA Form 0925d.

g. National Veteran Golden Age Games Application, VA Form 0926a, b, d, e, g, h.

h. Voluntary Application, VA Form 0926j.

i. National Veterans TEE Tournament Event Application, VA Form 0927a, c, e.

j. Voluntary Service Application, VA Form 0927f.

k. National Veterans Summer sports Clinic Event Application, VA Form 0928a, c.

l. Volunteer Application, VA Form 0928h.

m. Surfing Personnel Application, VA Form 0928i.

n. Venue Personnel Application, VA Form 0928j.

o. National Veteran Creative Arts Festival Event Application, VA0929a, b, c, d, e, f, g, h.

OMB Control Number: 2900-0759.

Type of Review: Reinstatement of a currently approved collection.

Abstract: Veterans who are enrolled for VA health care may apply to participate in therapeutic rehabilitation programs such as the National Veterans Wheelchair Games, National Veterans Golden Age Games, National Veterans Creative Arts Festival, National Veterans TEE Tournament, National Disabled Veterans Winter Sports Clinic and the National Veterans Summer Sports Clinic. The data collected will be used to plan, distribute and utilize resources and to allocate clinical and administrative support to patient treatment services.

Affected Public: Individuals and households.

Estimated Annual Burden:

a. VA Form 0924a, c, d and VA Form 2900-0925 (SF)—133.3 hours.

b. VA Form 0924n—2.8 hours.

c. VA Form 0924s—16.67.

d. VA Form 0924t—1.25 hours.

e. VA Form 0925b—119 hours.

f. VA Form 0925d—167 hours.

g. VA Form 0926a, b, d, e, g, h—333 hours.

h. VA Form 0926j—67 hours.

i. VA Form 0927a, c, e—65 hours.

j. VA Form 0927f—8 hours.

k. VA Form 0928a, c—14 hours.

l. VA Form 0928h—2.58 hours.

m. VA Form 0928i—.50 hours.

n. VA Form 0928j—1.33 hours.

o. VA0929a, b, c, d, e, f, g, h—116.6 hours.

Estimated Average Burden per Respondent:

a. VA Form 0924a, c, d, and VA Form 2900-0925 (SF)—20 minutes.

b. VA Form 0924n—5 minutes.

c. VA Form 0924s—5 minutes.

d. VA Form 0924t—5 minutes.

e. VA Form 0925b—10 minutes.

f. VA Form 0925d—5 minutes.

g. VA Form 0926a, b, d, e, g, h—20 minutes.

h. VA Form 0926j—5 minutes.

i. VA Form 0927a, c, e—13 minutes.

j. VA Form 0927f—5 minutes.

k. VA Form 0928a, c—7 minutes.

l. VA Form 0928h—5 minutes

m. VA Form 0928i—5 minutes.

n. VA Form 0928j—5 minutes.

o. VA0929a, b, c, d, e, f, g, h—35 minutes.

Frequency of Response: On occasion.

Estimated Number of Respondents:

a. VA Form 0924a, c, d, and VA Form 2900-0925 (SF)—400.

b. VA Form 0924n—25.

c. VA Form 0924s—200.

d. VA Form 0924t—15.

e. VA Form 0925b—715.

f. VA Form 0925d—2,000.

g. VA Form 0926a, b, d, e, g, h—1,000.

h. VA Form 0926j—800.

i. VA Form 0927a, c, e—300.

j. VA Form 0927f—100.

k. VA Form 0928a, c—120.

l. VA Form 0928h—31.

m. VA Form 0928i—6.

n. VA Form 0928j—16.

o. VA0929a, b, c, d, e, f, g, h—200.

By direction of the Secretary.
Cynthia Harvey-Pryor,
Department Clearance Officer, Office of Quality, Privacy and Risk, Department of Veterans Affairs.

[FR Doc. 2017-23030 Filed 10-23-17; 8:45 am]

BILLING CODE 8320-01-P